DEPARTMENT OF COMMERCE

National Oceanic and Atmospheric Administration

[RTID 0648-XF056]

Endangered Species; File No. 29054

AGENCY: National Marine Fisheries Service (NMFS), National Oceanic and Atmospheric Administration (NOAA), Commerce.

ACTION: Notice; receipt of application.

SUMMARY: Notice is hereby given that Inwater Research Group, 4160 NE Hyline Drive, Jensen Beach, FL 34957 (Responsible Party: Cody Mott), has applied in due form for a permit to take green (Chelonia mydas), Kemp's ridley (Lepidochelys kempii), leatherback (Dermochelys coriacea), loggerhead (Caretta caretta), and hawksbill (Eretmochelys imbricata) sea turtles for purposes of scientific research.

DATES: Written comments must be received on or before September 11, 2025.

ADDRESSES: The application and related documents are available for review by selecting “Records Open for Public Comment” from the “Features” box on the Applications and Permits for Protected Species home page, https://apps.nmfs.noaa.gov, and then selecting File No. 29054 from the list of available applications. These documents are also available upon written request via email to NMFS.Pr1Comments@noaa.gov.

Written comments on this application should be submitted via email to NMFS.Pr1Comments@noaa.gov. Please include File No. 29054 in the subject line of the email comment.

Those individuals requesting a public hearing should submit a written request via email to NMFS.Pr1Comments@noaa.gov. The request should set forth the specific reasons why a hearing on this application would be appropriate.

FOR FURTHER INFORMATION CONTACT: Amy Hapeman or Erin Markin, Ph.D., (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to conduct research on sea turtles incidentally entrained at the St. Lucie Nuclear Power Plant in St. Lucie, Florida. Researchers would investigate sea turtle demographics, health, diet, movements, and behavior of up to 200 green, 5 hawksbill, 10 Kemp's ridley, 3 leatherback, and 200 loggerhead sea turtles, annually, that are legally captured by the plant. Researchers would collect blood, scute samples, skin biopsies, and swabs from each animal prior to their release in the Atlantic Ocean. Some animals would also receive an instrument attachment (drill carapace or epoxy); gastric lavage; ultrasound; or be temporarily held for tank-based experiments, such as bycatch reduction trials or foraging behavior trials. The permit would be valid for 10 years.

Dated: August 7, 2025.
Shannon Bettridge,
Chief, Marine Mammal and Sea Turtle Conservation Division, Office of Protected Resources, National Marine Fisheries Service.

[FR Doc. 2025-15268 Filed 8-11-25; 8:45 am]

BILLING CODE 3510-22-P